DEPARTMENT OF COMMERCE

National Oceanic and Atmospheric Administration

50 CFR Part 648

[Docket No.: 210308-0050; RTID 0648-XX070]

Fisheries of the Northeastern United States; Monkfish Fishery; 2021 Monkfish Specifications

AGENCY: National Marine Fisheries Service (NMFS), National Oceanic and Atmospheric Administration (NOAA), Commerce.

ACTION: Final rule.

SUMMARY: We are implementing specifications for the 2021 monkfish fishery. This action is necessary to ensure allowable monkfish harvest levels that will prevent overfishing and allow harvesting of optimum yield. This action is intended to establish the allowable 2021 harvest levels, consistent with the Monkfish Fishery Management Plan and previously announced multi-year specifications.

DATES: The final specifications for the 2021 monkfish fishery are effective May 1, 2021, through April 30, 2022.

FOR FURTHER INFORMATION CONTACT: Allison Murphy, Fishery Policy Analyst, (978) 281-9122.

SUPPLEMENTARY INFORMATION: The New England and Mid-Atlantic Fishery Management Councils jointly manage the monkfish fishery. The Monkfish Fishery Management Plan includes a specifications process that requires the Councils to recommend quotas on a triennial basis. This action would finalize 2021 specifications approved by the Councils in Framework Adjustment 12 to the Monkfish Fishery Management Plan, which included specifications for fishing years 2020-2022.

On September 17, 2020, we approved Framework 12 measures for the 2020 fishing year (85 FR 57986), based on a recent stock assessment update and consistent with the New England Council's Scientific and Statistical Committee recommendations. At that time, we also projected a continuation of those same specifications for 2021 and 2022. Final 2021 total allowable landings in both the Northern and Southern Fishery Management Areas are summarized in Table 1. These 2021 measures are the same as those implemented in 2020. All other requirements remain the same.

Table 1—Monkfish Specifications for Fishing Year 2021
[In metric tons]
Catch limits | Northern area | Southern area
Acceptable Biological Catch | 8,351 | 12,316
Annual Catch Limit | 8,351 | 12,316
Management Uncertainty | 3 percent | 3 percent
Annual Catch Target (Total Allowable Landings + discards) | 8,101 | 11,947
Discards | 1,477 | 6,065
Total Allowable Landings | 6,624 | 5,882

We have reviewed available 2020 fishery information. There have been no annual catch limit or total allowable landings overages, nor is there any new biological information that would require altering the projected 2021 specifications. Based on this, we are implementing the fishing year 2021 specifications announced in the Framework 12 final rule (85 FR 57986, September 17, 2020). The 2021 specifications will be effective until April 30, 2022. We will finalize the 2022 fishing year specifications prior to May 1, 2022, by publishing another final rule.

Classification

Pursuant to section 304(b)(3) of the Magnuson-Stevens Act, the NMFS Assistant Administrator has determined that this final rule is consistent with the Monkfish Fishery Management Plan, other provisions of the Magnuson-Stevens Act, and other applicable law.

This rule is exempt from review under Executive Order 12866.

Pursuant to 5 U.S.C. 553(b)(B), we find good cause to waive prior public notice and opportunity for public comment on the catch limit and allocation adjustments because allowing time for notice and comment is unnecessary. The Framework 12 proposed rule provided the public with the opportunity to comment on the 2020-2022 specifications (85 FR 39157, June 30, 2020). No comments were received on the proposed rule. Thus, the proposed and final rules that contained the projected 2020-2022 specifications provided a full opportunity for the public to comment on the substance and process of this action. Furthermore, no circumstances or conditions have changed in the monkfish fishery that would cause new concern or necessitate reopening the comment period. Finally, the final 2021 specifications being implemented by this rule are unchanged from those projected in the Framework 12 final rule.

The Chief Counsel for Regulation, Department of Commerce, previously certified to the Chief Counsel for Advocacy of the Small Business Administration (SBA) that the 2020-2022 monkfish specifications would not have a significant economic impact on a substantial number of small entities. Implementing status quo specifications for 2021 will not change the conclusions drawn in that previous certification to the SBA. Because advance notice and the opportunity for public comment are not required for this action under the Administrative Procedure Act, or any other law, the analytical requirements of the Regulatory Flexibility Act, 5 U.S.C. 601 et seq., do not apply to this rule. Therefore, no new regulatory flexibility analysis is required and none has been prepared.

This final rule contains no information collection requirements under the Paperwork Reduction Act of 1995.

Authority: 16 U.S.C. 1801 et seq.

Dated: March 8, 2021.
Samuel D. Rauch III,
Deputy Assistant Administrator for Regulatory Programs, National Marine Fisheries Service.

[FR Doc. 2021-05123 Filed 3-11-21; 8:45 am]

BILLING CODE 3510-22-P